DEPARTMENT OF ENERGY

Environmental Management Site-Specific Advisory Board, Northern New Mexico

AGENCY: Office of Environmental Management, Department of Energy.

ACTION: Notice of open meeting.

SUMMARY: This notice announces an in-person/virtual hybrid meeting of the Environmental Management Site-Specific Advisory Board (EM SSAB), Northern New Mexico. The Federal Advisory Committee Act requires that public notice of this meeting be announced in the Federal Register.

DATES: Monday, October 3, 2022; 1:00 p.m. to 4:00 p.m. Tuesday, October 4, 2022; 9:00 a.m. to 12:00 p.m.

ADDRESSES: This hybrid meeting will be open to the public virtually via WebEx only. To attend virtually, please contact the Northern New Mexico Citizens Advisory Board (NNMCAB) Executive Director (below) no later than 5:00 p.m. MDT on Wednesday, September 28, 2022.

Board members, Department of Energy (DOE) representatives, agency liaisons, and Board support staff will participate in-person, strictly following COVID-19 precautionary measures, at: Hotel Don Fernando de Taos, 1005 Paseo Del Pueblo Sur, Taos, New Mexico 87571.

Attendees should check with the NNMCAB Executive Director (below) for any meeting format changes due to COVID-19 protocols.

FOR FURTHER INFORMATION CONTACT: Menice B. Santistevan, NNMCAB Executive Director, by Phone: (505) 699-0631 or Email: menice.santistevan@em.doe.gov.

SUPPLEMENTARY INFORMATION:

Purpose of the Board: The purpose of the Board is to make recommendations to DOE-EM and site management in the areas of environmental restoration, waste management, and related activities.

Tentative Agenda

EM Los Alamos Field Office Strategic Vision Planning

Public Participation: The in-person/online virtual hybrid meeting is open to the public virtually via WebEx only. Written statements may be filed with the Board no later than 5:00 p.m. MDT, on Wednesday, September 28, 2022, or within seven days after the meeting by sending them to the NNMCAB Executive Director at the aforementioned email address. Written public comments received prior to the meeting will be read into the record. The Deputy Designated Federal Officer is empowered to conduct the meeting in a fashion that will facilitate the orderly conduct of business. Individuals wishing to submit public comments should follow as directed above.

Minutes: Minutes will be available by emailing or calling Menice Santistevan, NNMCAB Executive Director, at menice.santistevan@em.doe.gov or at (505) 699-0631.

Signed in Washington, DC, August 26, 2022.
LaTanya Butler,
Deputy Committee Management Officer.

[FR Doc. 2022-18812 Filed 8-30-22; 8:45 am]

BILLING CODE 6450-01-P